DEPARTMENT OF COMMERCE

International Trade Administration

[A-570-900]

Notice of Amended Final Determination of Sales at Less Than Fair Value: Diamond Sawblades and Parts Thereof from the People's Republic of China

AGENCY: Import Administration, International Trade Administration, Department of Commerce.

EFFECTIVE DATE: June 22, 2006.

FOR FURTHER INFORMATION CONTACT: Anya Naschak or Carrie Blozy, AD/CVD Operations, Office 9, Import Administration, International Trade Administration, U.S. Department of Commerce, 14th Street and Constitution Avenue, NW., Washington, DC, 20230; telephone: (202) 482-6375 or 482-5403, respectively.

SUPPLEMENTARY INFORMATION:

Amendment to the Final Determination

In accordance with sections 735(d) and 777(i)(1) of the Tariff Act of 1930, as amended, (“the Act”), on May 22, 2006, the Department of Commerce (“the Department”) published its final determination of sales at less than fair value (“LTFV”). See Final Determination of Sales at Less Than Fair Value and Final Partial Affirmative Determination of Critical Circumstances: Diamond Sawblades and Parts Thereof from the People's Republic of China, 71 FR 29303

(May 22, 2006) (“Final Determination”). See Final Determination and corresponding Issues and Decision Memorandum, dated May 15, 2006.

Between May 23, 2006, and May 26, 2006, the following parties filed timely allegations that the Department made various clerical errors in the Final Determination. On May 23, 2006, the Diamond Sawblade Manufacturers' Coalition (“Petitioner”) filed a timely request pursuant to section 351.224(c)(2) of the Department's regulations, requesting that the Department correct alleged ministerial errors in the Final Determination in the calculation of a margin for Bosun Tools Group Co., Ltd. (“Bosun”) and Beijing Gang Yan Diamond Product Company (“BGY”) (included with Yichang HXF Circular Saw Industrial Co., Ltd (“HXF”) as a single entity, Advanced Technology & Materials Co., Ltd. (“AT&M”) (see Final Determination)). Also on May 23, 2006, AT&M filed comments on the Department's draft customs instructions. On May 26, 2006, Hebei Jikai Industrial Group Co. Ltd. (“Hebei Jikai”) filed a request that the Department correct certain clerical errors with respect to Hebei Jikai. On May 31, 2006, Petitioner filed comments rebutting Hebei Jikai's allegations.

A ministerial error is defined as an error in addition, subtraction, or other arithmetic function, clerical error resulting from inaccurate copying, duplication, or the like, and any other similar type of unintentional error which the Department considers ministerial. See 19 CFR 351.224(f).

After analyzing all interested party comments and rebuttals, we have determined, in accordance with 19 CFR 351.224(e), that we made ministerial errors in our calculations performed for the final determination with respect to Bosun and AT&M. However, the Department finds that the errors alleged by Hebei Jikai were not ministerial errors within the meaning of 19 CFR 351.224(f). For a detailed discussion of these ministerial errors, as well as the Department=s analysis, see Memorandum to James C. Doyle from Anya Naschak: Antidumping Duty Investigation of Diamond Sawblades from the People's Republic of China: Analysis of Ministerial Error Allegations, dated June 15, 2006 (“Ministerial Error I&D Memo”). Additionally, in the Final Determination, we determined that several companies qualified for a separate rate. The margin we calculated in the Final Determination for these companies, which is the weighted average of the mandatory respondents' rates, was 20.72 percent. Because the rates of the mandatory respondents have changed since the Final Determination, we have recalculated the rate for the separate rate applicants. The new rate is 21.43 percent. See Ministerial Error I&D Memo at Attachment IV.

In addition, AT&M requested that the Department make certain changes to the Department's draft instructions to U.S. Customs and Border Protection (“CBP”). AT&M requested that the Department modify the language used in the Department's customs instructions to read “on exports where Cliff (Tianjin) International, Ltd. acted as the exporter and facilitator for the AT&M entity, imports are eligible to claim the antidumping duty rate” for AT&M. See AT&M's letter to the Department dated May 23, 2006. Though this suggestion does not constitute a “ministerial” error within the meaning of section 351.224(f) of the Department's regulations, the Department will make the change as requested by AT&M to ensure that the Department's intent is clear to CBP. Thus, the Department will include language in the customs module indicating that exports where Cliff (Tianjin) International, Ltd. acted as an exporter and facilitator to AT&M, the importer is eligible to claim AT&M's antidumping duty rate.¹

¹ The Department will also include such language in its cash deposit instructions to CBP.

Therefore, in accordance with 19 CFR 351.224(e), we are amending the final determination of sales at LTFV in the antidumping duty investigation of diamond sawblades from the People's Republic of China (“PRC”). The revised weighted-average dumping margins are included in the “Antidumping Duty Order” section, below. For the revisions to the calculations for all companies, see Ministerial Error I&D Memo.

Therefore, in accordance with 19 CFR 351.224(e), we are amending the final determination of sales at LTFV in the antidumping duty investigation of diamond sawblades from the PRC. The revised dumping margins are as follows:

Diamond Sawblades from the PRC - Weighted-average Dumping Margins
Exporter | Producer | Weighted-Average Deposit Rate
Advanced Technology & Materials Co., Ltd. | Advanced Technology & Materials Co., Ltd. | ² 2.82%
Bosun Tools Group Co., Ltd. | Bosun Tools Group Co., Ltd. | 35.51%
Danyang Huachang Diamond Tools Manufacturing Co., Ltd. | Danyang Huachang Diamond Tools Manufacturing Co., Ltd. | 21.43%
Danyang NYCL Tools Manufacturing Co., Ltd. | Danyang NYCL Tools Manufacturing Co., Ltd. | 21.43%
Danyang Youhe Tool Manufacturer Co., Ltd. | Danyang Youhe Tool Manufacturer Co., Ltd. | 21.43%
Fujian Quanzhou Wanlong Stone Co., Ltd. | Fujian Quanzhou Wanlong Stone Co., Ltd. | 21.43%
Guilin Tebon Superhard Material Co., Ltd. | Guilin Tebon Superhard Material Co., Ltd. | 21.43%
Hebei Jikai Industrial Group Co., Ltd. | Hebei Jikai Industrial Group Co., Ltd. | 48.50%
Huzhou Gu's Import & Export Co., Ltd. | Danyang Aurui Hardware Products Co., Ltd. | 21.43%
Huzhou Gu's Import & Export Co., Ltd. | Danyang Huachang Diamond Tools Manufacturing Co., Ltd. | 21.43%
Jiangsu Fengtai Diamond Tool Manufacture Co., Ltd. | Jiangsu Fengtai Diamond Tool Manufacture Co., Ltd. | 21.43%
Jiangyin Likn Industry Co., Ltd. | Jiangsu Fengtai Diamond Tool Manufacture Co., Ltd. | 21.43%
Jiangyin Likn Industry Co., Ltd. | Wuhan Wanbang Laser Diamond Tools Co. | 21.43%
Qingdao Shinhan Diamond Industrial Co., Ltd. | Qingdao Shinhan Diamond Industrial Co., Ltd. | 21.43%
Quanzhou Zhongzhi Diamond Tool Co., Ltd. | Quanzhou Zhongzhi Diamond Tool Co., Ltd. | 21.43%
Rizhao Hein Saw Co., Ltd. | Rizhao Hein Saw Co., Ltd. | 21.43%
Shanghai Deda Industry & Trading Co., Ltd. | Hua Da Superabrasive Tools Technology Co., Ltd. | 21.43%
Shanghai Robtol Tool Manufacturing Co., Ltd. | Shanghai Robtol Tool Manufacturing Co., Ltd. | 21.43%
Shijiazhuang Global New Century Tools Co., Ltd. | Shijiazhuang Global New Century Tools Co., Ltd. | 21.43%
Sichuan Huili Tools Co. | Chengdu Huifeng Diamond Tools Co., Ltd. | 21.43%
Sichuan Huili Tools Co. | Sichuan Huili Tools Co. | 21.43%
Weihai Xiangguang Mechanical Industrial Co., Ltd. | Weihai Xiangguang Mechanical Industrial Co., Ltd. | 21.43%
Wuhan Wanbang Laser Diamond Tools Co. | Wuhan Wanbang Laser Diamond Tools Co. | 21.43%
Xiamen ZL Diamond Tools Co., Ltd. | Xiamen ZL Diamond Tools Co., Ltd. | 21.43%
Zhejiang Tea Import & Export Co., Ltd. | Danyang Dida Diamond Tools Manufacturing Co., Ltd. | 21.43%
Zhejiang Tea Import & Export Co., Ltd. | Danyang Tsunda Diamond Tools Co., Ltd. | 21.43%
Zhejiang Tea Import & Export Co., Ltd. | Wuxi Lianhua Superhard Material Tools Co., Ltd. | 21.43%
Zhejiang Wanli Tools Group Co., Ltd. | Zhejiang Wanli Super-hard Materials Co., Ltd. | 21.43%
Zhenjiang Inter-China Import & Export Co., Ltd. | Danyang Weiwang Tools Manufacturing Co., Ltd. | 21.43%
PRC-Wide Rate |  | 164.09%

Continuation of Suspension of Liquidation

In accordance with section 735(c)(1)(B) of the Act, we will instruct CBP to continue to suspend liquidation of all entries of subject merchandise from the PRC. We will also instruct CBP to require cash deposit or the posting of a bond equal to the estimated amount by which the normal value exceeds the U.S. price as indicated in the chart above. These instructions suspending liquidation will remain in effect until further notice.

² Including Beijing Gang Yan Diamond Products Company as an exporter when merchandise was also produced by Beijing Gang Yan Diamond Products Company, and Yichang HXF Circular Saw Industrial Co., Ltd. as an exporter when merchandise was also produced by Yichang HXF Circular Saw Industrial Co., Ltd.

This determination is issued and published pursuant to sections 735(d) and 777(i)(1) of the Act.

Dated: June 15, 2006.
David M. Spooner,
Assistant Secretary for Import Administration.

[FR Doc. E6-9874 Filed 6-21-06; 8:45 am]

BILLING CODE 3510-DS-S